DEPARTMENT OF THE INTERIOR

Bureau of Indian Affairs

[212A2100DD/AAKC001030/ A0A501010.999900253G]

Student Progress and Promotion and Certificate of Completion

AGENCY: Bureau of Indian Affairs, Interior.

ACTION: Notice of Tribal consultation session and public meeting.

SUMMARY: The Bureau of Indian Education (BIE) is seeking Tribal and public input on draft policies regarding progress and promotion and certificate of completion. The purpose of these two policies is to make certain that student promotion is based on the meeting of minimum standards, with high school graduation marking the culmination of a student's K-12 education, in recognition of all the learning that occurred during that journey.

DATES: A Tribal consultation session will be held from 1 p.m. to 2 p.m. Eastern Time (ET) on May 11, 2021, the public meeting will be held from 2 p.m. to 3 p.m. ET on May 11, 2021. Written comments must be received by 11:59 p.m. ET, May 21, 2021.

ADDRESSES: To join the teleconference, call (800) 857-5055, passcode 6951606. Written comments may be emailed to consultation@bia.gov.

FOR FURTHER INFORMATION CONTACT: Travis Clark, Chief Performance Officer, Bureau of Indian Education; (571) 926-6998 or email travis.clark@bie.edu.

SUPPLEMENTARY INFORMATION: The BIE is seeking Tribal and public stakeholder input on draft policies regarding progress and promotion and certificate of completion, available at: https://www.bie.edu/topic-page/special-education under “Part 33 Draft Policy Certificate of Completion” and “Part 33 Draft Policy Student Progress/Promotion.”

The purpose of these two policies is to make certain that student promotion is based on the meeting of minimum standards, with high school graduation marking the culmination of a student's K-12 education, in recognition of all the learning that occurred during that journey. The conference of a diploma serves as a foundation for the next phase of a young person's life, further education and career. Nevertheless, the BIE understands that in some instances students with the most significant cognitive disabilities may not be able to meet the requirements of a standard high school diploma. In such instances, the BIE desires to give students access to a certificate of completion. The BIE encourages schools/districts to support students with disabilities in seeking and obtaining a standard high school diploma whenever possible. However, the BIE recognizes that for some students with the most significant cognitive disabilities a certificate of completion may be appropriate.

BIE welcomes input from Tribes, families of students at BIE schools and other stakeholders. Please see the information in the DATES and ADDRESSES section of this notice for information on the public sessions and directions on joining.

Bryan Newland,
Principal Deputy Assistant Secretary—Indian Affairs.

[FR Doc. 2021-07501 Filed 4-12-21; 8:45 am]

BILLING CODE 4337-15-P